DEPARTMENT OF STATE

[Public Notice: 12438]

Privacy Act of 1974; System of Records

AGENCY: Department of State.

ACTION: Rescindment of a system of records notice.

SUMMARY: The “Communications Personnel Training Records, State-57” which is being rescinded, contains information which was used to determine current and future training requirements of those individuals who are professional communications personnel and who have been tasked to perform additional back-up communications duties at Foreign Service posts.

DATES: On May 9, 2023, the Department of State published a notice in the Federal Register (88 FR 29960) that records in State-57 were being consolidated with “Foreign Service Institute Records, State-14” into a single modified State-14 because the records and system purposes were substantially similar. The consolidation of these two systems of records into State-14 became effective on June 8, 2023.

ADDRESSES: Questions can be submitted by mail, email, or by calling Ereney A. Hadjigeorgalis, the Senior Agency Official for Privacy, on (771) 204-7399. If mail, please write to: Ereney A. Hadjigeorgalis, Senior Agency Official for Privacy; U.S Department of State; Office of Global Information Services, A/GIS; Room 4534, 2201 C St. NW, Washington, DC 20520. If email, please address the email to the Senior Agency Official for Privacy, Ereney A. Hadjigeorgalis, at Privacy@state.gov. Please write “Communications Personnel Training Records, State-57” on the envelope or the subject line of your email.

FOR FURTHER INFORMATION CONTACT: Ereney A. Hadjigeorgalis, Senior Agency Official for Privacy; U.S. Department of State; Office of Global Information Services, A/GIS; Room 4534, 2201 C St. NW, Washington, DC 20520 or by calling (771) 204-7399.

SUPPLEMENTARY INFORMATION: The records in “Communications Personnel Training Records, State-57” (originally published at 53 FR 16208) were consolidated with “Foreign Service Institute Records, State-14” (previously published at 71 FR 8882). The new SORN reflecting the consolidated systems of records “Foreign Service Records, State-14” was published at 88 FR 29960 on May 9, 2023.

SYSTEM NAME AND NUMBER:

Communications Personnel Training Records, State-57.

HISTORY:

“Communications Personnel Training Records, State-57” was previously published at 53 FR 16208. “Foreign Service Institute Records, State-14” was previously published at 71 FR 8882 before being modified and re-published at 88 FR 29960.

Ereney A. Hadjigeorgalis,
Acting Deputy Assistant Secretary, Global Information Services, Department of State.

[FR Doc. 2024-14630 Filed 7-2-24; 8:45 am]

BILLING CODE 4710-34-P